DEPARTMENT OF TRANSPORTATION

Federal Aviation Administration

14 CFR Part 39

[Docket No. FAA-2005-20884; Directorate Identifier 2005-NM-051-AD; Amendment 39-14048; AD 2005-07-23]

RIN 2120-AA64

Airworthiness Directives; Dassault Model Falcon 10 Series Airplanes

AGENCY: Federal Aviation Administration (FAA), Department of Transportation (DOT).

ACTION: Final rule; request for comments.

SUMMARY: The FAA is adopting a new airworthiness directive (AD) for all Dassault Model Falcon 10 series airplanes. This AD requires revising the Limitations section of the airplane flight manual (AFM) to include a statement prohibiting flight into known or forecasted icing conditions, and installing a placard in the flight deck. In lieu of the AFM revision and placard installation, this AD allows identifying the part number of each flexible hose in the wing anti-icing system, performing repetitive detailed inspections of each hose for delamination, and performing corrective actions if necessary. This AD is prompted by a report of delamination of the internal wall of a flexible hose in the wing anti-icing system. We are issuing this AD to prevent collapse of the flexible hoses in the wing anti-icing system, which could lead to insufficient anti-icing capability and, if icing is encountered in this situation, could result in reduced controllability of the airplane.

DATES: Effective April 26, 2005.

The incorporation by reference of a certain publication listed in the AD is approved by the Director of the Federal Register as of April 26, 2005.

We must receive comments on this AD by June 10, 2005.

ADDRESSES: Use one of the following addresses to submit comments on this AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street SW., Nassif Building, Room PL-401, Washington, DC 20590.

• Fax: (202) 493-2251.

• Hand Delivery: Room PL-401 on the plaza level of the Nassif Building, 400 Seventh Street SW., Washington, DC, between 9 a.m. and 5 p.m., Monday through Friday, except Federal holidays.

For service information identified in this AD, contact Dassault Falcon Jet, P.O. Box 2000, South Hackensack, New Jersey 07606.

You can examine the contents of this AD docket on the Internet at http://dms.dot.gov, or in person at the Docket Management Facility, U.S. Department of Transportation, 400 Seventh Street SW., Room PL-401, on the plaza level of the Nassif Building, Washington, DC. This docket number is FAA-2005-20884; the directorate identifier for this docket is 2005-NM-051-AD.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

FOR FURTHER INFORMATION CONTACT: Tom Rodriguez, Aerospace Engineer, International Branch, ANM-116, FAA, Transport Airplane Directorate, 1601 Lind Avenue, SW., Renton, Washington 98055-4056; telephone (425) 227-1137; fax (425) 227-1149.

SUPPLEMENTARY INFORMATION: The Direction Générale de l'Aviation Civile (DGAC), which is the airworthiness authority for France, notified the FAA that an unsafe condition may exist on all Dassault Model Falcon 10 series airplanes. The DGAC advises that a flexible hose in the wing anti-icing system collapsed on a Dassault Model Falcon 10 series airplane. The flexible hoses supply hot air for anti-icing of the inboard and outboard slats of the wing. Investigation revealed that the hose collapsed due to delamination of the internal wall, which resulted in the obstruction of airflow through the hose. This condition, if not corrected, could result in insufficient anti-icing capability and, if icing is encountered in this situation, cold result in reduced controllability of the airplane.

Relevant Service Information

Dassault has issued Alert Service Bulletin F10-A312, dated February 25, 2005. The alert service bulletin describes procedures for identifying the part number of the flexible hoses, inspecting the internal walls of the hoses for blistering (delamination), and performing corrective actions. The corrective actions include replacing any hose that doesn't have a certain part number with a hose having the part number specified in the service bulletin, and replacing any damaged hose with a new hose having the part number specified in the service bulletin. The DGAC mandated the alert service bulletin and issued French emergency airworthiness directive UF-2005-041, issued February 25, 2005, to ensure the continued airworthiness of these airplanes in France.

FAA's Determination and Requirements of This AD

This airplane model is manufactured in France and is type certificated for operation in the United States under the provisions of section 21.29 of the Federal Aviation Regulations (14 CFR 21.29) and the applicable bilateral airworthiness agreement. Pursuant to this bilateral airworthiness agreement, the DGAC has kept the FAA informed of the situation described above. We have examined the DGAC's findings, evaluated all pertinent information, and determined that we need to issue an AD for products of this type design that are certificated for operation in the United States. Therefore, we are issuing this AD to prevent the collapse of flexible hoses in the wing anti-icing system, which could lead to insufficient anti-icing capability and, if icing is encountered in this situation, could result in reduced controllability of the airplane.

This AD requires revising the Limitations section of the airplane flight manual (AFM) to include a statement prohibiting flight into known or forecasted icing conditions, and installing a placard in the flight deck. In lieu of the AFM revision and placard installation, this AD allows identifying the part number of each flexible hose in the wing anti-icing system, performing repetitive detailed inspections of each hose for delamination, and performing corrective actions if necessary, by accomplishing the actions specified in the service information described previously. The AD also requires sending the inspection results to the airplane manufacturer. When the unsafe condition addressed by an AD is likely due to a manufacturer's quality control (QC) problem, a reporting requirement is instrumental in ensuring that as much information as possible can be gathered regarding the extent and nature of the QC problem or breakdown, especially in cases where the data may not be available through other established means. This information is necessary to ensure that proper corrective action will be taken.

Difference Between the AD and French Emergency Airworthiness Directive

If an operator chooses to do the AFM revision and placard installation instead of the repetitive inspection of the flexible hoses, the French emergency airworthiness directive mandates performing the AFM revision before the next flight of the airplane. This AD allows operators 14 days after the effective date of this AD to complete the AFM revision. In developing an appropriate compliance time for this AD, we considered the DGAC's recommendation, as well as the degree of urgency associated with the subject unsafe condition. In light of these factors, we find that a 14-day compliance time represents an appropriate interval of time for affected airplanes to continue to operate without compromising safety.

The DGAC is aware of this difference.

Clarification of Life Limits and Repetitive Inspection Intervals

For the flexible hoses, the French emergency airworthiness directive references the existing life limit of 3,000 flight hours, which is in Chapter 5-40 of the Dassault Falcon 10 Airplane Maintenance Manual. The French emergency airworthiness directive requires a revision to Chapter 5-40 to include repetitive inspections of the hoses. This AD is not requiring a change to Chapter 5-40 since these inspections are required by this AD. For operators that choose to do the repetitive inspections, this AD requires repetitive inspections at intervals of 60 flight cycles or 3 months, whichever is first.

Clarification of Type of Inspection

The “inspection” of the internal walls of the flexible hoses specified in the alert service bulletin is identified as a “detailed inspection” in this AD. We have included the definition for a detailed inspection in Note 1 of this AD.

Interim Action

This AD is considered to be interim action. The inspection reports that are required by this AD will enable the manufacturer to obtain better insight into the nature, cause, and extent of the delamination of the internal walls of a flexible hose, and eventually to develop final action to address the unsafe condition. Once final action has been identified, we may consider further rulemaking.

FAA's Determination of the Effective Date

An unsafe condition exists that requires the immediate adoption of this AD; therefore, providing notice and opportunity for public comment before the AD is issued is impracticable, and good cause exists to make this AD effective in less than 30 days.

Comments Invited

This AD is a final rule that involves requirements that affect flight safety and was not preceded by notice and an opportunity for public comment; however, we invite you to submit any relevant written data, views, or arguments regarding this AD. Send your comments to an address listed under ADDRESSES. Include “Docket No. FAA-2005-20884; Directorate Identifier 2005-NM-051-AD” at the beginning of your comments. We specifically invite comments on the overall regulatory, economic, environmental, and energy aspects of the AD. We will consider all comments received by the closing date and may amend the AD in light of those comments.

We will post all comments we receive, without change, to http://dms.dot.gov, including any personal information you provide. We will also post a report summarizing each substantive verbal contact with FAA personnel concerning this AD. Using the search function of our docket Web site, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the National Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2005-07-23 Dassault Aviation (Formerly Avions Marcel Dassault-Breguet Aviation (AMD/BA)): Amendment 39-14048. Docket No. FAA-2005-20884; Directorate Identifier 2005-NM-051-AD.

Effective Date

(a) This AD becomes effective April 26, 2005.

Affected ADs

(b) None.

Applicability

(c) This AD applies to all Dassault Model Falcon 10 series airplanes, certificated in any category.

Unsafe Condition

(d) This AD was prompted by a report of delamination of the internal wall of a flexible hose in the wing anti-icing system. The FAA is issuing this AD to prevent the collapse of flexible hoses in the wing anti-icing system, which could lead to insufficient anti-icing capability and, if icing is encountered in this situation, could result in reduced controllability of the airplane.

Compliance

(e) You are responsible for having the actions required by this AD performed within the compliance times specified, unless the actions have already been done.

Repetitive Inspections, or Airplane Flight Manual (AFM) Revision and Placard Installation

(f) Within 14 days after the effective date of this AD, perform the actions specified in either paragraph (f)(1) or (f)(2) of this AD:

(1) Revise the Limitations section of the Dassault Aviation Falcon 10 AFM, and install a placard in the flight deck, to include the following information.

“Flights into known or forecasted icing conditions are prohibited.”

The AFM revision may be done by inserting a copy of this AD into the AFM. Install the placard on the pedestal in clear view of the pilot.

(2) Determine the part number of each flexible hose installed in the wing anti-icing system, perform a detailed inspection of the internal walls of the hoses for delamination, and perform any applicable corrective action, by accomplishing all of the applicable actions specified in the Accomplishment Instructions of Dassault Alert Service Bulletin F10-A312, dated February 25, 2005. If the part number for any hose cannot be determined, before further flight, replace that hose with a hose having part number (P/N) FAL1005D. Any corrective action must be done before further flight. Repeat the detailed inspection thereafter at intervals not to exceed 60 flight cycles or 3 months, whichever is first.

Note 1: When a statement identical to that in paragraph (f)(1) of this AD has been included in the general revision of the AFM, the general revision may be inserted into the AFM, and the copy of this AD may be removed from the AFM.

Note 2: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

(g) For airplanes on which the actions described in paragraph (f)(1) are performed, doing the actions described in paragraph (f)(2) is terminating action for the requirements of paragraph (f)(1). Once the initial detailed inspection specified in paragraph (f)(2) is performed, the AFM limitation and placard required by paragraph (f)(1) may be removed.

Reporting Requirement

(h) At the applicable time specified in paragraph (h)(1) or (h)(2) of this AD: After performing any detailed inspection required by paragraph (f)(2) of this AD, submit a report of the findings (positive and negative) of the detailed to: Dassault Falcon Jet, Attn: Service Engineering/Falcon 10, fax: (201) 541-4700. The report must include the airplane serial number, the location of the hose (inboard or outboard), the number of flight hours since hose installation, the number of cycles in icing conditions, and the manufacturing date and batch number of the hose. Submission of the Service Bulletins Compliance form, which is attached to the alert service bulletin, is an acceptable method of complying with this requirement. Under the provisions of the Paperwork Reduction Act of 1980 (44 U.S.C. 3501 et seq.), the Office of Management and Budget (OMB) has approved the information collection requirements contained in this AD and has assigned OMB Control Number 2120-0056.

(1) If the detailed inspection was done after the effective date of this AD: Submit the report within 30 days after the inspection.

(2) If the detailed inspection was done prior to the effective date of this AD: Submit the report within 30 days after the effective date of this AD.

Alternative Methods of Compliance (AMOCs)

(i) The Manager, International Branch, ANM-116, Transport Airplane Directorate, FAA, has the authority to approve AMOCs for this AD, if requested in accordance with the procedures found in 14 CFR 39.19.

Related Information

(j) French emergency airworthiness directive UF-2005-041, issued February 25, 2005, also addresses the subject of this AD.

Material Incorporated by Reference

(k) You must use Dassault Alert Service Bulletin F10-A312, dated February 25, 2005, including the Service Bulletins Compliance Card, to perform the actions that are required by this AD, unless the AD specifies otherwise. The Director of the Federal Register approves the incorporation by reference of this document in accordance with 5 U.S.C. 552(a) and 1 CFR part 51. To get copies of the service information, go to Dassault Falcon Jet, P.O. Box 2000, South Hackensack, New Jersey 07606. To view the AD docket, go to the Docket Management Facility, U.S. Department of Transportation, 400 Seventh Street SW., room PL-401, Nassif Building, Washington, DC. To review copies of the service information, go to the National Archives and Records Administration (NARA). For information on the availability of this material at NARA, call (202) 741-6030, or go to http://www.archives.gov/federal_register/code_of_federal_regulations/ibr_locations.html.

Issued in Renton, Washington, on March 31, 2005.
Kalene C. Yanamura,
Acting Manager, Transport Airplane Directorate, Aircraft Certification Service.

[FR Doc. 05-6911 Filed 4-8-05; 8:45 am]

BILLING CODE 4910-13-P